DEPARTMENT OF THE INTERIOR

National Park Service

[NPS-NERO-GATE-15539; PPNEGATEB0, PPMVSCS1Z.Y00000]

Amendment to Notice of the February—August 2014 Meeting Schedule for Gateway National Recreation Area Fort Hancock 21st Century Advisory Committee

AGENCY: National Park Service, Interior.

ACTION: Notice of amendment of meeting location.

SUMMARY: In accordance with the Federal Advisory Committee Act (5 U.S.C. Appendix 1-16), notice is hereby given of the change in location for the next three meetings of the Gateway National Recreation Area Fort Hancock 21st Century Advisory Committee (Committee) from the Chapel at Sandy Hook, to Twin Lights State Historic Site in Highlands, NJ. These meetings will take place on the following dates: May 30, 2014, July 18, 2014, and August 22, 2014.

ADDRESSES: The meeting location originally published on February 14, 2014, in the Federal Register, 79 FR 8988, has changed for the following meetings:

1. May 30, 2014, at 9:00 a.m. (EASTERN)

2. July 18, 2014, 2013 at 9:00 a.m. (EASTERN)

3. August 22, 2014, at 9:00 a.m. (EASTERN)

The new meeting location for all three meetings will be moved from The Chapel at Sandy Hook, Hartshorne Drive, Middletown, NJ, to Twin Lights State Historic Site, Lighthouse Road, Highlands, NJ. Directions to the Twin Lights State Historic Site can be found at: http://www.twinlightslighthouse.com/index.php?option=com_content&view=article&id=54&Itemid=57. Please check http://www.forthancock21stcentury.org for additional information.

FOR FURTHER INFORMATION CONTACT: Further information concerning the meetings may be obtained by mail from John Warren, Gateway National Recreation Area, 26 Hudson Road, Highlands, NJ, 07732, or by calling (732) 872-5908, or via email at forthancock21stcentury@yahoo.com, or by visiting the Committee Web site at http://www.forthancock21stcentury.org.

SUPPLEMENTARY INFORMATION: As provided under section 10(a)(2) of the Federal Advisory Committee Act (5 U.S.C. Appendix 1-16), the purpose of the Committee is to provide advice to the Secretary of the Interior, through the Director of the National Park Service, on the development of a reuse plan and on matters relating to future uses of certain buildings at Fort Hancock within Gateway National Recreation Area.

Meetings are open to the public. Interested members of the public may present, either orally or through written comments, opinions or information for the Committee to consider during the public meeting. Attendees and those wishing to provide comment are strongly encouraged to preregister through the contact information provided. The public will be able to comment at the May through August meetings from 1:00 p.m. to 1:45 p.m. Written comments will be accepted prior to, during or after the meeting. Due to time constraints during the meeting, the Committee is not able to read written public comments submitted into the record. Individuals or groups requesting to make oral comments at the public committee meeting will be limited to no more than 5 minutes per speaker.

Before including your address, telephone number, email address, or other personal identifying information in your comment, you should be aware that your entire comment—including your personal identifying information—may be made publicly available at any time. While you may ask us in your comment to withhold your personal identifying information from public review, we cannot guarantee that we will be able to do so.

Dated: April 28, 2014.
Alma Ripps,
Chief, Office of Policy.

[FR Doc. 2014-10151 Filed 5-1-14; 8:45 am]

BILLING CODE 4310-WV-P